FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 7, 2017.

A. Federal Reserve Bank of Atlanta (Kathryn Haney, Director of Applications) 1000 Peachtree Street NE., Atlanta, Georgia 30309. Comments can also be sent electronically to Applications.Comments@atl.frb.org:

1. Wirt Adams Yerger, Jr.; Mary Montague Yerger; Wirt Adams Yerger, IV; Wirt Adams Yerger, IV, as custodian for Anny Elizabeth Yerger, Jane Ellen Yerger, and Mary Adams Yerger; Mary Montague Yerger Dunbar; Mary Montague Yerger Dunbar, trustee for Mary Montague Yerger Dunbar Revocable Trust; Mary Montague Yerger Dunbar, as custodian of Mary Montague Dunbar, all of Jackson, Mississippi; Wirt Adams Yerger, III and Linda Biggers Yerger, both of Inlet Beach, Florida; John Taylor Yerger, Dallas, Texas; Richard Montague Yerger, Birmingham, Alabama; James David Yerger, Raleigh, North Carolina; Thomas Yerger Dunbar and Wirt Yerger Dunbar, both of Austin, Texas; Frank Montague Yerger; Frank Montague Yerger, trustee for Frank Montague Yerger Revocable Trust; Jane P. Yerger; Jane P. Yerger, trustee for Frank Montague Yerger, Jr., Trust 2; Jane P. Yerger, trustee for Sara Jane Rivers Yerger Trust; and Jane P. Yerger, trustee for Harlan Prater Yerger Trust, all of Oxford, Mississippi; to collectively retain voting shares of PriorityOne Capital Corporation, and thereby indirectly retain voting shares in PriorityOne Bank, both in Magee, Mississippi.

Board of Governors of the Federal Reserve System.
August 18, 2017.
Yao-Chin Chao, Assistant Secretary of the Board.

[FR Doc. 2017-17893 Filed 8-23-17; 8:45 am]

BILLING CODE P